POSTAL SERVICE

Sunshine Act Meeting

Governors Vote To Close August 11, 2003, Meeting

By telephone vote on August 11, 2003, a majority of the Governors contacted and voting, the Governors voted to close to public observation a meeting held via teleconference. The Governors determined that prior public notice was not possible.

Item Considered: 1. Personnel Matters and Compensation Issues.

General Counsel Certification: The General Counsel of the United States Postal Service has certified that the meeting was properly closed under the Government in the Sunshine Act.

FOR FURTHER INFORMATION CONTACT: Requests for information about the meeting should be addressed to the Secretary of the Board, William T. Johnstone, at (202) 268-4800.

William T. Johnstone,
Secretary.

[FR Doc. 03-21042 Filed 8-13-03; 2:14 pm]

BILLING CODE 7710-12-M